NUCLEAR REGULATORY COMMISSION

[NRC-2010-0001]

Biweekly Notice Applications and Amendments to Facility Operating Licenses Involving No Significant Hazards Considerations

I. Background

Pursuant to section 189a. (2) of the Atomic Energy Act of 1954, as amended (the Act), the U.S. Nuclear Regulatory Commission (the Commission or NRC) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from December 17, 2009, to December 30, 2009. The last biweekly notice was published on December 29, 2009 (74 FR 68867).

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland. Publicly available records will be accessible from the Agencywide Documents Access and Management System (ADAMS) Public Electronic Reading Room on the internet at the NRC Web site, http://www.nrc.gov/reading-rm/adams.html. If you do not have access to ADAMS or if there are problems in accessing the documents located in ADAMS, contact the PDR Reference staff at 1 (800) 397-4209, (301) 415-4737 or by e-mail to pdr.resource@nrc.gov.

Entergy Operations, Inc., Docket No. 50-313, Arkansas Nuclear One, Unit No. 1, Pope County, Arkansas

Date of amendment request: August 5, 2009.

Brief description of amendment: Current Technical Specification (TS) 5.5.8, “Inservice Testing Program,” contains references to the American Society of Mechanical Engineers (ASME) Boiler and Pressure Vessel Code, Section XI as the source of requirements for the inservice testing (IST) of ASME Code Class 1, 2, and 3 pumps and valves. The amendment deleted the references to Section XI of the Code and incorporated references to the ASME Code for Operation and Maintenance of Nuclear Power Plants (ASME OM Code). The amendment utilized some nonstandard frequencies in the IST Program in which the provisions of Surveillance Requirement 3.0.2 are applicable. The changes are consistent with Technical Specification Task Force (TSTF) change travelers TSTF-479-A, “Changes to Reflect Revision to 10 CFR 50.55a,” and TSTF-497-A, “Limit Inservice Testing Program SR 3.0.2 Application to Frequencies of 2 Years or Less.”

Date of issuance: December 23, 2009.

Effective date: As of the date of issuance and shall be implemented within 90 days from the date of issuance.

Amendment No.: 240.

Renewed Facility Operating License No. DPR-51: Amendment revised the Technical Specifications/license.

Date of initial notice in Federal Register: October 6, 2009 (74 FR 51330).

The Commission's related evaluation of the amendment is contained in a Safety Evaluation dated December 23, 2009.

No significant hazards consideration comments received: No.

Entergy Operations, Inc., Docket No. 50-313, Arkansas Nuclear One, Unit No. 1, Pope County, Arkansas

Date of amendment request: March 10, 2009.

Brief description of amendment: The amendment deleted the minimum pressurizer water level requirement in Technical Specification 3.4.9, “Pressurizer,” and eliminated the verification of the minimum level requirement in Surveillance Requirement 3.4.9.1. This change is consistent with NUREG-1430, Revision 3, “Standard Technical Specifications, Babcock and Wilcox Plants.”

Date of issuance: December 23, 2009.

Effective date: As of the date of issuance and shall be implemented within 90 days from the date of issuance.

Amendment No.: 241.

Renewed Facility Operating License No. DPR-51: Amendment revised the Technical Specifications/license.

Date of initial notice in Federal Register: April 21, 2009 (74 FR 18254).

The Commission's related evaluation of the amendment is contained in a Safety Evaluation dated December 23, 2009.

No significant hazards consideration comments received: No.

Dated at Rockville, Maryland, this 30th day of December 2009.
For The Nuclear Regulatory Commission.
Joseph G. Giitter,
Director, Division of Operating Reactor Licensing, Office of Nuclear Reactor Regulation.

[FR Doc. 2010-226 Filed 1-11-10; 8:45 am]

BILLING CODE 7590-01-P